DEPARTMENT OF HOUSING AND URBAN DEVELOPMENT

[Docket No. FR-5750-N-38]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Ms. Connie Lotfi, Air Force Real Property Agency, 143 Billy Mitchell Blvd., San Antonio, TX 78226, (210)- 925-3047; (These are not toll-free numbers).

Dated: September 11, 2014.
Brian P. Fitzmaurice,
Director, Division of Community Assistance, Office of Special Needs Assistance Programs.

TITLE V, FEDERAL SURPLUS PROPERTY PROGRAM FEDERAL REGISTER REPORT FOR 09/19/2014

Suitable/Available Properties

Building

Alaska

2 Buildings

Industrial Ave.

Eielson AFB AK 99702

Landholding Agency: Air Force

Property Number: 18201310030

Status: Unutilized

Directions: 6213, 6214

Comments: off-site removal only; sf. varies; major repairs needed; contact AF for more info. on a specific property & accessibility/removal reqs.

Building 400

Main Street

King Salmon Airport AK

Landholding Agency: Air Force

Property Number: 18201320079

Status: Unutilized

Comments: 1,408 sf.; storage; 29 yrs. old; moderate conditions; periodic flooding (next to Naknek River).

Building 720

Fuel Lane

King Salmon Airport AK

Landholding Agency: Air Force

Property Number: 18201320083

Status: Unutilized

Comments: 285 sf.; fuel building; 24+ months vacant; deteriorated; periodic flooding (next to Naknek River).

California

Building 1028

19338 North St.

Beale CA 95903

Landholding Agency: Air Force

Property Number: 18201240009

Status: Unutilized

Comments: 178 sf.; storage; poor conditions; asbestos & lead; restricted area; contact AF for info. on accessibility requirements.

Building 2153

6900 Warren Shingle

Beale AFB CA 95903

Landholding Agency: Air Force

Property Number: 18201240010

Status: Unutilized

Comments: 4,000 sf.; storage; very poor conditions; asbestos & lead possible; restricted area; contact AF for info. on accessibility requirements.

Colorado

6 Buildings

GJKZ

Fairchild AFB CO 99011

Landholding Agency: Air Force

Property Number: 18201320042

Status: Underutilized

Directions: 1478, 1479, 1480,1482,1483,1484

Comments: off-site removal only; no future AF need; sf. varies; w/inactive military installation; contact AF for removal/accessibility reqs.

Florida

Building 5002

6801 Hwy 98

Tyndall AFB FL 32403

Landholding Agency: Air Force

Property Number: 18201310010

Status: Unutilized

Comments: 151 sf.; water pump station; 6 mons. vacant; major repairs; restricted area; contact AF for info. on accessibility reqs.

2 Buildings

CoCoa Beach Tracking Annex

Cocoa Beach FL 32931

Landholding Agency: Air Force

Property Number: 18201340040

Status: Unutilized

Directions: 00001 (59 sq. ft.); 00002 (1,030 sq. ft.)

Comments: 56+ yrs.-old; 24+ months vacant; launch support; fair conditions; contact Air Force for more info.

7 Buildings

Eglin AFB

Eglin FL 32542

Landholding Agency: Air Force

Property Number: 18201430056

Status: Unutilized

Directions: 1330 (288 sq. ft.); 1340 (100 sq. ft.); 1341 (100 sq. ft.); 1372 ((144 sq. ft.); 1350; 1403 (168 sq. ft.); 6011 (1,750 sq. ft.)

Comments: off-site removal only; no future agency need; removal may be difficult for 1350 and 1403; deterioration; secured are; contact air force for more information.

Georgia

5 Buildings

Moody Air Force Base

Moody GA 31699

Landholding Agency: Air Force

Property Number: 18201330006

Status: Underutilized

Directions: 1703 (853 sf.); 907 & 908 (9,186 sf. each); 662 & 754 (10,240 sf. each)

Comments: very poor conditions; 50- 70 yrs.-old; contamination; secured area; transferee will need escort each time to access property; contact Air Force for more info.

Louisiana

Building 117

Naval Air Station Joint Reserve Base

New Orleans LA 70143

Landholding Agency: Air Force

Property Number: 18201330046

Status: Excess

Comments: 3,975 sf.; storage; deteriorated; secured area; background check/pass required; contact Air Force for more info. re.; accessibility reqs.

Building 019

Naval Air Station joint Reserve Base

New Orleans LA 70143

Landholding Agency: Air Force

Property Number: 18201330050

Status: Excess

Comments: 3,038 sq. ft.; storage; deteriorated; secured area; official ID required; contact Air Force for more information.

Massachusetts

7 Buildings

Westover ARB

Chicopee MA 01022

Landholding Agency: Air Force

Property Number: 18201320062

Status: Underutilized

Directions: 7701,7704,7706,7707,2426,2765,7700

Comments: Off-site removal only; no future AF need; sf. varies; adequate to very poor conditions; contamination; restricted area; escort required; contact AF for more info.

Michigan

3 Buildings

Selfridge ANGB

Selfridge MI 48045

Landholding Agency: Air Force

Property Number: 18201220020

Status: Unutilized

Directions: 326,780,710

Comments: off-site removal only; sf varies; office/school/barracks; fair conditions; need repairs.

Mississippi

Building 112

CRTC Gulfport

Gulfport MS 39507

Landholding Agency: Air Force

Property Number: 18201330041

Status: Excess

Comments: 90 sf.; ATM bldg.; good conditions; contact Air Force for more info.

Nebraska

Visitor Control Center

Building #344

Offutt AFB

Offutt NE 68113

Landholding Agency: Air Force

Property Number: 18201430066

Status: Excess

Comments: 425 sq. ft.; base security police visitor control center; 4-5+ years old; moderate conditions; contact Air Force for more information.

New York

ARS Pesticide Storage Building

Asset ID 190800B042 RPUID 03.55316

Installation 20126 Plant Genetics Resources

Geneva NY

Landholding Agency: Agriculture

Property Number: 15201430022

Status: Excess

Comments: off-site removal only; 60 sq. ft.; storage; stores hazardous materials; secured area; contact Agriculture for more information.

Oklahoma

Building 267

7576 Sentry Blvd.

Tinker AFB OK 73145

Landholding Agency: Air Force

Property Number: 18201310039

Status: Unutilized

Comments: off-site removal only; 6,892 sf.; vehicle parking shed; fair conditions; restricted area; contact AF for info. on accessibility/removal requirements.

Building 1100

7492 Patrol Road

Tinker AFB OK 73145

Landholding Agency: Air Force

Property Number: 18201320024

Status: Underutilized

Comments: off-site removal only; no future AF need; 5,471 sf.; maint. facility; fair/poor condition; controlled AF installation, contact AF for more info.

Building 944

4600 Air Depot Blvd.

Tinker AFB OK 73145

Landholding Agency: Air Force

Property Number: 18201320026

Status: Underutilized

Comments: off-site removal only; no future AF need; 2,400 sf.; warehouse; fair/poor condition; controlled AF installation; contact AF for info. re: accessibility/removal.

Building 1111

Tinker AFB

Tinker OK 73145

Landholding Agency: Air Force

Property Number: 18201330028

Status: Unutilized

Comments: off-site removal only; no future agency need; 231 sf.; utility bldg.; generally good conditions; secured area; contact Air Force for more info.

2 Buildings

Tinker AFB

Tinker OK 73145

Landholding Agency: Air Force

Property Number: 18201330029

Status: Unutilized

Directions: 1072,901

Comments: off-site removal only; no agency need; poor conditions; secured area; contact Air Force for info. on a specific property & removal requirements.

Building 183

Altus AFB AGGN

Altus OK 73523

Landholding Agency: Air Force

Property Number: 18201340001

Status: Unutilized

Comments: 167 sq. ft.; no bathroom; secured area; escort required each time to access property; asbestos; contact Air Force for more info.

280

7481 Sentry Boulevard

Tinker AFB OK 73145

Landholding Agency: Air Force

Property Number: 18201420002

Status: Excess

Comments: off-site removal only; 19,034 sq. ft.; wing HQs; roof is in poor condition; secured area; contact for accessibility; removal request.

268

7568 Sentry Boulevard

Tinker AFB OK 73145

Landholding Agency: Air Force

Property Number: 18201420008

Status: Underutilized

Comments: off-site removal only; no future agency need; 7,311 sq. ft.; air passenger terminal; roof needs repairing; secured area; contact AF for more info.

7 Buildings

Tinker AFB

Tinker AFB OK 73145

Landholding Agency: Air Force

Property Number: 18201420050

Status: Unutilized

Directions: 1064; 7043; 7014; 7012; 7011; 7010; 7009

Comments: off-site removal only; no future agency need; poor conditions, secured area; contact AF for more information on a specific property & accessibility requirements.

Puerto Rico

Muniz IAP

200 JoseA (Tony) Santana Ave.

Carolina PR 09879

Landholding Agency: Air Force

Property Number: 18201320069

Status: Unutilized

Comments: 755 sf.; potable water storage & pump house; poor conditions; secured area; escort required to access property; contact AF for more info.

South Carolina

2 Building

Shaw AFB

Sumter SC 29152

Landholding Agency: Air Force

Property Number: 18201320054

Status: Unutilized

Directions: 1036, 1826

Comments: off-site removal only; no future agency need; sf. varies; poor conditions; secured area, contact AF for more info.

4 Buildings

Shaw AFB

Sumter SC 29152

Landholding Agency: Air Force

Property Number: 18201320055

Status: Underutilized

Directions: 1027,1028,2451,1034

Comments: off-site removal only; no AF future need; sf. varies; poor conditions; secured area; contact AF for more info.

Building 1036

311 Avocet Street, Street, Shaw AFB

Sumter SC 29152

Landholding Agency: Air Force

Property Number: 18201320086

Status: Unutilized

Comments: off-site removal only; no future agency need; 1,694 sf.; open storage for auto hobby shop; repairs needed; secured area; contact AF for more info.

Building 1826

100 Shaw Dr., Shaw AFB

Sumter SC 29152

Landholding Agency: Air Force

Property Number: 18201320087

Status: Unutilized

Comments: off-site removal only; no future agency need; 984sf. wash rack; repairs needed; secured area; contact AF for more info.

430

JB Charleston

Charleston SC 29404

Landholding Agency: Air Force

Property Number: 18201430052

Status: Unutilized

Comments: off-site removal only; no future agency need; 500 sq. ft.; 9+ years old; fair to poor condition; secured area; contact Air force for more information.

6 Buildings

JB Charleston

Goose Creek SC 29445

Landholding Agency: Air Force

Property Number: 18201430067

Status: Underutilized

Directions: 747 (120 Sq. ft.); 1654 (29 sq. ft.); 1655 (49 sq. ft.); 64 (1,891 sq. ft.); 343 (16,200 sq. ft.); 344 (23,566 sq. ft.)

Comments: off-site removal only; no future agency need; removal may be difficult for 343 and 344; good to poor conditions; secured area; contact Air Force for more information.

Texas

3 Buildings

Dyess AFB

Dyess AFB TX 79602

Landholding Agency: Air Force

Property Number: 18201420052

Status: Unutilized

Directions: 4308; 4310; 5276

Comments: off-site removal only; no future agency need; poor conditions; secured area; contact AF for more information on a specific property & accessibility requirements.

Suitable/Available Properties

Land

Alaska

Parcel of Land

Joint Base Elmendorf Richardson

JBER AK 99506

Landholding Agency: Air Force

Property Number: 18201330011

Status: Underutilized

Comments: 20x20 (400sf.); secured area; must obtain a visitor's pass & have a gov't sponsor escort to access installation; contact Air Force for more info.

37,515 SF of Land

JBER-Elmendorf

JBER AK 99506

Landholding Agency: Air Force

Property Number: 18201340003

Status: Underutilized

Comments: restricted area; transferee must obtain a government sponsor to access property; contact Air Force for more info.

Florida

WBPA (9901/72441/99300)

9901 E. Pine Ave.

St. George Island FL 32328

Landholding Agency: Air Force

Property Number: 18201310041

Status: Excess

Comments: .34 acres; tower & fence needs to be removed; remote access; contact AF for more info.

99142 Land

Cocoa Beach Tracking Annex

Cocoa Beach FL 32931

Landholding Agency: Air Force

Property Number: 18201340041

Status: Unutilized

Comments: .31 acre; launch support; subject to storm tidal surges that may cause flooding; contact Air Force for more info.

Indiana

Fac. 775/776 Ceilometer

ILS Localizer

Cass County Rd. 950 S.

Galveston IN 46932

Landholding Agency: Air Force

Property Number: 18201410020

Status: Excess

Comments: 0.052 acres; contact Air Force for more information.

Suitable/Unavailable Properties

Building

Oklahoma

24 Buildings

Tinker AFB

Tinker AFB OK 73145

Landholding Agency: Air Force

Property Number: 18201310040

Status: Excess

Directions: 9005, 217, 222, 234, 803, 902, 903, 904, 905, 990, 994, 1001, 1096, 1110, 2128, 3333, 3805, 4005, 4008, 7005, 7007, 7037, 7038, 7041

Comments: sf. varies; fair to moderate conditions; currently bldgs. are unavailable because they are being utilized by the AF.

Building 4008

6285 Hilltop Rd.

Tinker AFB OK 73145

Landholding Agency: Air Force

Property Number: 18201320085

Status: Excess

Comments: 7,767 sf.; depot operations facility; fair conditions; not available due to existing AF need.

Unsuitable Properties

Building

Alabama

2 Buildings

Maxwell AFB

Maxwell AFB AL 36112

Landholding Agency: Air Force

Property Number: 18201310034

Status: Underutilized

Directions: 1450, 1451

Comments: secured military installation; public access denied & no alternative method to gain access w/out compromising nat'l security.

Reasons: Secured Area

3 Buildings

Visiting Officer Qtrs.

Gunter Annex AL 36114

Landholding Agency: Air Force

Property Number: 18201310035

Status: Underutilized

Directions: 1014, 1015, 1016

Comments: secured military installation; public access denied & no alternative method to gain access w/out compromising nat'l security.

Reasons: Secured Area

Building 1411, Visiting Airman

635 McDonnell Street

Maxwell AFB AL 36114

Landholding Agency: Air Force

Property Number: 18201320009

Status: Underutilized

Comments: public access denied & no alter. w/out compromising nat'l sec.

Reasons: Secured Area

Unsuitable Properties

Building

Alabama

Building 122, Military Family

321 Hickory Street

Maxwell AFB AL 36112

Landholding Agency: Air Force

Property Number: 18201320012

Status: Underutilized

Comments: public access denied & no alter. w/out compromising nat'l sec.

Reasons: Secured Area

4 Facilities

20 Kelly Street

Maxwell AFB AL 36112

Landholding Agency: Air Force

Property Number: 18201320014

Status: Excess

Directions: 1073, 1074, 1075, 1076

Comments: public access denied & no alter. w/out compromising nat'l sec.

Reasons: Secured Area

Building 1128

Maxwell Air Force Base

Maxwell AL 36112

Landholding Agency: Air Force

Property Number: 18201430053

Status: Unutilized

Comments: public access denied and no alternative without compromising national security.

Reasons: Secured Area

4 Buildings

Maxwell air Force Base

Maxwell AL 36112

Landholding Agency: Air Force

Property Number: 18201430055

Status: Underutilized

Directions: 148; 1036; 902; 742

Comments: public access denied and no alternative without compromising national security.

Reasons: Secured Area

Alaska

10 Buildings

Flaxman Island

Flaxman Island AK

Landholding Agency: Air Force

Property Number: 18201320031

Status: Excess

Directions: 22, 23, 24, 41, 44, 4, 5, 100, 101, 105

Comments: public access denied & no alter. w/out compromising nat'l sec.

Reasons: Secured Area

Building 4

Flaxman Island

Flaxman Island AK

Landholding Agency: Air Force

Property Number: 18201320078

Status: Excess

Comments: public access denied & no alternative method to gain access w/out compromising nat'l security.

Reasons: Secured Area

2 Buildings

Eareckson Air Station

Eareckson, AS AK

Landholding Agency: Air Force

Property Number: 18201410010

Status: Unutilized

Directions: 452, 453

Comments: public access denied and no alternative method to gain access w/out compromising national security.

Reasons: Secured Area

57433

Joint Base Elmendorf-Richardson

57433 Stevens Road

JBER-Richardson AK 99505

Landholding Agency: Air Force

Property Number: 18201420034

Status: Underutilized

Comments: public access denied and no alternative without compromising national security.

Reasons: Secured Area

Arizona

Building 1535-Credit Union W.

N. 138th Ave.

Glendale AZ 85309

Landholding Agency: Air Force

Property Number: 18201320001

Status: Excess

Comments: w/in secured area; public access denied & no alternative method to gain access w/out compromising nat'l security.

Reasons: Secured Area

6 Buildings

Davis Monahan AFB

Tucson AZ 85707

Landholding Agency: Air Force

Property Number: 18201340028

Status: Underutilized

Directions: 127, 7410, 7411, 7413, 7416, 7412

Comments: located on a gated entry controlled military base; public access denied and no alternative method to gain access w/out compromising national security.

Reasons: Secured Area

18 Buildings

Davis Monahan

4855 S. Wickenburg Avenue

Tucson AZ 85707

Landholding Agency: Air Force

Property Number: 18201420016

Status: Underutilized

Directions: FBNV7613; FBNV7708; FBNV7713; FBNV2350; FBNV2550; FBNV3501; FBNV4065; FBNV7403; FBNV7409; FBNV7427; FBNV7431; FBNV7434; FBNV7435; FBNV7437; FBNV7446; FBNV7507; FBNV7513; FBNV7514

Comments: public access denied and no alternate without compromising national security.

Reasons: Secured Area

Arkansas

7 Buildings

Little Rock AFB

Little Rock AR 72099

Landholding Agency: Air Force

Property Number: 18201420037

Status: Unutilized

Directions: 840; 1383; 1389; 1397; 1398; 1432; 230

Comments: public access denied and no alternation without compromising national security.

Reasons: Secured Area

330

Little Rock AFB

330 Chief Williams Drive

Little Rock AR 72099

Landholding Agency: Air Force

Property Number: 18201420038

Status: Underutilized

Comments: public access denied and no alternation without compromising national security.

Reasons: Secured Area

California

2 Buildings

401 & 405 14th St.

Edwards AFB CA 93524

Landholding Agency: Air Force

Property Number: 18201230002

Status: Unutilized

Directions: 7177, 7179

Comments: public access not allowed; no alternative method to allow public access w/out comprising nat'l security.

Reasons: Secured Area

4259

741 Circle

Edwards AFB CA 93524

Landholding Agency: Air Force

Property Number: 18201230003

Status: Unutilized

Comments: public access not allowed; no alternative method to allow public access w/out comprising nat'l security.

Reasons: Secured Area

3 Buildings

Edwards AFB

Edwards AFB CA 93524

Landholding Agency: Air Force

Property Number: 18201230032

Status: Unutilized

Directions: 1412, 4203, 7020

Comments: located w/in restricted area where public access denied & no alternative method to gain access w/out compromising nat'l security.

Reasons: Secured Area

26 Buildings

Eureka Hill Rd.

Point Arena Air CA

Landholding Agency: Air Force

Property Number: 18201240011

Status: Underutilized

Directions: 602,603,604,605,606,607,608,609,610,611,612,613,614,615,616,617,618,619,620,621,622,623,624,625,626,627

Comments: secured area; public access denied & no alternative method to gain access w/out compromising nat'l security.

Reasons: Secured Area

21 Buildings

Eureka Hill Rd.

Point Arena Air CA

Landholding Agency: Air Force

Property Number: 18201240012

Status: Underutilized

Directions: 100,102,104,105,160,201,108,202,203,206,220,221,222,225,228,217,218,408,700,300,216

Comments: secured area; public access denied & no alternative method to gain access w/out compromising nat'l security.

Reasons: Secured Area

ACFT DY RSCH

Edwards AFB

Edwards CA

Landholding Agency: Air Force

Property Number: 18201240016

Status: Unutilized

Comments: secured area; public access denied & no alternative method to gain access w/out compromising nat'l security.

Reasons: Secured Area

ACFT RSCH ENG

Edwards AFB

Edwards CA

Landholding Agency: Air Force

Property Number: 18201240017

Status: Unutilized

Comments: secured area; public access denied & no alternative method to gain access w/out compromising nat'l security.

Reasons: Secured Area

Kennel Stray Animal

Edwards AFB

Edwards CA

Landholding Agency: Air Force

Property Number: 18201240018

Status: Excess

Comments: secured area; public access denied & no alternative method to gain access w/out compromising nat'l security.

Reasons: Secured Area

10 Buildings

Fresno Yosemite Intern'l

Fresno CA 93727

Landholding Agency: Air Force

Property Number: 18201240036

Status: Excess

Directions: 2202,2203,2204,2206,2207,2208,2217,2219,2221,2223

Comments: restricted area; public access denied & no alternative method to gain access w/out compromising nat'l security.

Reasons: Secured Area

4 Buildings

Arnold/Grumman Ave.

Beale CA 95903

Landholding Agency: Air Force

Property Number: 18201310018

Status: Underutilized

Directions: 1057, 1058, 1226, 1152

Comments: w/in secured area; public access denied & no alternative method to gain access w/out compromising nat'l security.

Reasons: Secured Area

4 Buildings

Edwards AFB

Edwards AFB CA 93523

Landholding Agency: Air Force

Property Number: 18201310053

Status: Underutilized

Directions: B1412, B1400, B4900, B8834

Comments: secured area; public access denied & no alternative w/out compromising nat'l security.

Reasons: Secured Area

Building 124

Defense Distribution, San Joaquin

Sharpe Site

Lathrop CA 95231

Landholding Agency: Air Force

Property Number: 18201330052

Status: Unutilized

Comments: public access denied & no alternative method to gain access w/out compromising nat'l security.

Reasons: Secured Area

4 Buildings

Vandenberg AFB

Vandenberg AFB CA 93437

Landholding Agency: Air Force

Property Number: 18201420036

Status: Unutilized

Directions: 533; 541; 11343; 21294

Comments: public access denied and no alternation without compromising national security.

Reasons: Secured Area

11 Buildings

Edwards AFB

Edwards CA

Landholding Agency: Air Force

Property Number: 18201430060

Status: Unutilized

Directions: 4250; 4251; 4560; 4976; 4979; 5206; 9020; 2670; 3611; 4226; 4249

Comments: public access denied and no alternative without compromising national security.

Reasons: Secured Area

3 Buildings

Vandenberg Air Force Base

Vandenberg CA 93437

Landholding Agency: Air Force

Property Number: 18201430064

Status: Unutilized

Directions: 886; 887; 189

Comments: public access denied and no alternative without compromising national security.

Reasons: Secured Area

Colorado

4 Buildings

Buckley AFB

Aurora CO 80011

Landholding Agency: Air Force

Property Number: 18201230017

Status: Underutilized

Directions: B1504, B1503, B1502, B1501

Comments: located w/in secured area where public access denied & no alternative method to gain access w/out compromising nat'l security.

Reasons: Secured Area

Building 1615

1390 S. Chucara Street

Aurora CO 80011

Landholding Agency: Air Force

Property Number: 18201320028

Status: Unutilized

Comments: public access denied & no alter. method w/out compromising nat'l sec.

Reasons: Secured Area

B/2001

Range 123W.-Prairie

Pueblo West CO 81007

Landholding Agency: Air Force

Property Number: 18201330035

Status: Underutilized

Comments: public access denied & no alternative method to gain access w/out compromising nat'l security.

Reasons: Secured Area

Building 814, Backley AF Base

120 Vail Street

Building 814

Aurora CO 80011

Landholding Agency: Air Force

Property Number: 18201420012

Status: Underutilized

Comments: public access denied and no alternate without compromising national security.

Reasons: Secured Area

3 Buildings

Peterson AFB

Peterson CO 80914

Landholding Agency: Air Force

Property Number: 18201420035

Status: Unutilized

Directions: 600; 681; 1281

Comments: public access denied and no alternation without compromising national security.

Reasons: Secured Area

5229

5229 Cedar Drive

USAF Academy CO 80840

Landholding Agency: Air Force

Property Number: 18201420043

Status: Unutilized

Comments: public access denied and no alternation without compromising national security.

Reasons: Secured Area

Building 106

106 NORAD Road,

Cheyenne Mountain AFB

Colorado Springs CO 80914

Landholding Agency: Air Force

Property Number: 18201420046

Status: Unutilized

Comments: public access denied and no alternation without compromising national security.

Reasons: Secured Area

Delaware

2 Buildings

Dover AFB

Dover DE 19902

Landholding Agency: Air Force

Property Number: 18201230018

Status: Underutilized

Directions: 3499,899

Comments: located w/in secured area where public access denied & no alternative method to gain access w/out compromising nat'l security.

Reasons: Secured Area

Building 2818

2600 Spruance Dr.

New Castle DE 19720

Landholding Agency: Air Force

Property Number: 18201310050

Status: Unutilized

Comments: secured area; public access denied & no alternative w/out compromising nat'l security.

Reasons: Secured Area

2 Buildings

null

Dover AFB

Dover DE 19902-6600

Landholding Agency: Air Force

Property Number: 18201420041

Status: Excess

Directions: 267; 302

Comments: public access denied and no alternation without compromising national security.

Reasons: Secured Area

4 Buildings

Dover AFB

Dover DE 19901

Landholding Agency: Air Force

Property Number: 18201430063

Status: Underutilized

Directions: 459; 709; 710; 713

Comments: public access denied & no alternative without compromising National security.

Reasons: Secured Area

Facilities 28407 & 28411

1656 Lighthouse Rd.

Cape Canaveral FL 32925

Landholding Agency: Air Force

Property Number: 18201220009

Status: Excess

Comments: nat'l security concerns; public access denied & no alternative method to gain access w/out comprising nat'l security.

Reasons: Secured Area

10 Buildings

Cape Canaveral

Cape Canaveral FL 32925

Landholding Agency: Air Force

Property Number: 18201220039

Status: Excess

Directions: 28411, 28415, 44500, 49928, 28401, 24445, 24404, 24403, 1715, 70540

Comments: nat'l security concerns; public access denied & no alternative method to gain access w/out comprising nat'l security.

Reasons: Secured Area

3 Buildings

MacDill AFB

MacDill FL 33621

Landholding Agency: Air Force

Property Number: 18201230009

Status: Unutilized

Directions: 1205, 1149, 1135

Comments: located w/in secured area where public access denied & no alternative method to gain access w/out compromising nat'l security.

Reasons: Secured Area

10 Buildings

Samuel C. Philips Pkwy

Cape Canaveral AFB FL 32925

Landholding Agency: Air Force

Property Number: 18201230014

Status: Excess

Directions: 84922,84920,67900,60535,60534,1361, 40906,56623,36004,17705

Comments: located w/in secured area where public access denied & no alternative method to gain access w/out compromising nat'l security.

Reasons: Secured Area

Facility 49800

15030 Samuel C. Phillips Pkwy

Cape Canaveral FL 32925

Landholding Agency: Air Force

Property Number: 18201230019

Status: Excess

Comments: located w/in secured area where public access denied & no alternative method to gain access w/out compromising nat'l security.

Reasons: Secured Area

Bldg. 1132

Transmitter Rd.

MacDill AFB FL 33621

Landholding Agency: Air Force

Property Number: 18201230021

Status: Unutilized

Comments: located w/in secured area where public access denied & no alternative method to gain access w/out compromising nat'l security.

Reasons: Secured Area

Bldg. 297

8005 Hillsborough Loop Dr.

MacDill FL 33621

Landholding Agency: Air Force

Property Number: 18201230049

Status: Underutilized

Comments: located w/in secured area; public access denied & no alternative method to gain access w/out compromising nat'l security.

Reasons: Secured Area

4 Buildings

Fighter Wing, FL ANGB

Jacksonville FL 32218

Landholding Agency: Air Force

Property Number: 18201240028

Status: Underutilized

Directions: 1014,1015,1016,1017

Comments: property located on a gated entry controlled military base; public access denied & no alternative to gain access w/out compromising nat'l security.

Reasons: Secured Area

3 Buildings

Tyndall AFB

Tyndall FL 32403

Landholding Agency: Air Force

Property Number: 18201310012

Status: Unutilized

Directions B122, B123, 920

Comments: located w/in secured area; public access denied & no alternative method to gain access w/out compromising nat'l security.

Reasons: Secured Area

21 Buildings

Cape Canaveral AFS

Cape Canaveral AFS FL 32925

Landholding Agency: Air Force

Property Number: 18201310032

Status: Unutilized

Directions: 1627, 2826, 2842, 4120, 5414, 7006, 7850, 8602, 15832, 28403, 28404, 28408, 28409, 28414, 28420, 28422, 28423, 28425, 28502, 28504, 36001

Comments: secured area; public access denied & no alternative method to gain access w/out compromising nat'l security.

Reasons: Secured Area

5 Buildings

Kennedy Space Ctr. Communications

Kennedy Space Ctr. FL 32815

Landholding Agency: Air Force

Property Number: 18201310033

Status: Unutilized

Directions: 29115, 29120, 29139, 29142, 95401

Comments: secured area; public access denied & no alternative method without compromising nat'l security.

Reasons: Secured Area

12 Buildings

Florida Ave.

Tyndall AFB FL 32403

Landholding Agency: Air Force

Property Number: 18201310061

Status: Underutilized

Directions: 6030, 6022, 6021, 6020, 6016, 6014, 6025, 6023, 6028, 9706, 9704, 9719

Comments: secured area; public access denied & no alternative method w/out compromising nat'l security.

Reasons: Secured Area

6027 CE Shop/DRMO

302 Florida Ave.

Tyndall AFB FL 32403

Landholding Agency: Air Force

Property Number: 18201310062

Status: Excess

Comments: secured area; public access denied & no alternative method w/out compromising nat'l security.

Reasons: Secured Area

5 Building

MacDill AFB

MacDill AFB FL 33621

Landholding Agency: Air Force

Property Number: 18201320051

Status: Underutilized

Directions: 827, 826, 694, 550, 13

Comments: Not accessible to public; no alter. to gain access w/out compromising nat'l sec.

Reasons: Secured Area

3 Building

MacDill AFB

MacDill AFB FL 33621

Landholding Agency: Air Force

Property Number: 18201320052

Status: Underutilized

Directions: 1107, 65, 60

Comments: Not accessible to public; no alter. to gain access w/out compromising nat'l sec.

Reasons: Secured Area

2 Buildings

MacDill AFB

MacDill AFB FL 33671

Landholding Agency: Air Force

Property Number: 18201320065

Status: Unutilized

Directions: 1153, 1271

Comments: Public access denied & no alter. w/out compromising nat'l sec.

Reasons: Secured Area

Building 56636

755 Lighthouse Rd.

Cape Canaveral AFS FL 32925

Landholding Agency: Air Force

Property Number: 18201330020

Status: Unutilized

Comments: Public access denied & no alternative method to gain access w/out compromising nat'l security.

Reasons: Secured Area

4 Buildings

Cape Canaveral Air Force Station

Cape Canaveral FL 32925

Landholding Agency: Air Force

Property Number: 18201410002

Status: Unutilized

Directions: 60550, 55150, 1381, 28413

Comments: public access denied and no alternative to gain method to gain access w/out compromising national security.

Reasons: Secured Area

2 Buildings

MacDill AFB

MacDill FL 33621

Landholding Agency: Air Force

Property Number: 18201410028

Status: Underutilized

Comments: Public access denied & no alternative method to gain access w/out compromising nat'l security.

Reasons: Secured Area

Hawaii

2 Buildings

Wake Island

Wake Island HI 96898

Landholding Agency: Air Force

Property Number: 18201330009

Status: Unutilized

Directions: 01406, 01403

Comments: Public access denied & no alternative to gain access w/out compromising nat'l security.

Reasons: Secured Area

Building 102

Wake Island Airfield

Wake Island HI 96898

Landholding Agency: Air Force

Property Number: 18201330047

Status: Unutilized

Comments: 100 present of the property located in floodway; not contained or corrected.

Reasons: Floodway

Joint Base Pearl Harbor Hickam

Installation N62813

325 Gardner Ave.

Pearl Harbor HI 96853

Landholding Agency: Air Force

Property Number: 18201330048

Status: Unutilized

Comments: public access denied & no alternative method to gain access w/out compromising nat'l security.

Reasons: Secured Area

Idaho

Fac. 291

Bomber Rd.

MHAFB ID 83648

Landholding Agency: Air Force

Property Number: 18201240013

Status: Unutilized

Comments: secured area; public access denied & no alternative method to gain access w/out compromising nat'l security.

Reasons: Secured Area

Illinois

3 Buildings

Scott AFB

Scott AFB IL 62225

Landholding Agency: Air Force

Property Number: 18201220034

Status: Unutilized

Directions: 1984, 1985, 530

Comments: high security active duty installation; nat'l security concerns; public access denied & no alternative method to gain access w/out comprising nat'l security.

Reasons: Secured Area

B1508

107 Bucher St.

Scott AFB IL 62225

Landholding Agency: Air Force

Property Number: 18201230023

Status: Excess

Comments: authorized access only; restricted area; public access denied & no alternative method to gain access w/out compromising nat'l security.

Reasons: Secured Area

Building 509

611 South Drive

Scott AFB IL 62225

Landholding Agency: Air Force

Property Number: 18201310009

Status: Unutilized

Comments: located w/in secured area; public access denied & no alternative method to gain access w/out compromising nat'l security.

Reasons: Secured Area

2 Buildings

Scott AFB

Scott AFB IL 62225

Landholding Agency: Air Force

Property Number: 18201320029

Status: Unutilized

Directions: 3270, 4900

Comments: high security active duty installation; public access denied & no alter. method w/out compromising nat'l sec.

Reasons: Secured Area

2 Buildings

Abraham Lincoln Capital Airport

Springfield IL 62707

Landholding Agency: Air Force

Property Number: 18201330031

Status: Excess

Directions: 124, 5

Comments: public access denied & no alternative method to gain access w/out compromising nat'l security.

Reasons: Secured Area

Bldg. 155

Scott AFB

Scott IL 62225

Landholding Agency: Air Force

Property Number: 18201340022

Status: Unutilized

Comments: public access denied & no alternative method to gain access w/out compromising national security.

Reasons: Secured Area

Petroleum Operations Laboratory

RPUID 404858

Abraham Lincoln Capital Airport

Springfield IL 62707

Landholding Agency: Air Force

Property Number: 18201430068

Status: Unutilized

Directions: 183rd Fighter Wing, 3101J

Comments: public access denied and no alternative w/out compromising security.

Reasons: Secured Area

Indiana

Facilities 99 &1371

Stor Igloos

Terre Haute IN 47803

Landholding Agency: Air Force

Property Number: 18201220019

Status: Unutilized

Comments: nat'l security concerns; public access denied & no alternative method to gain access w/out comprising nat'l security.

Reasons: Secured Area

Kansas

Building 985

McConnell AFB

Wichita KS 67221

Landholding Agency: Air Force

Property Number: 18201330021

Status: Underutilized

Comments: public access denied & no alternative method to gain access w/out compromising nat'l security.

Reasons: Secured Area

Louisiana

3 Buildings

Barksdale AFB

Barksdale AFB LA 71110

Landholding Agency: Air Force

Property Number: 18201220032

Status: Unutilized

Directions: 5724, 7318, 7136

Comments: nat'l security concerns; public access denied & no alternative method to gain access w/out comprising nat'l security.

Reasons: Secured Area

B-5485

Barksdale AFB

Barksdale LA 71110

Landholding Agency: Air Force

Property Number: 18201330040

Status: Unutilized

Comments: public access denied & no alternative method to gain access w/out compromising nat'l security.

Reasons: Secured Area

B-4359

745 Douhet Street

Barksdale AFB

Barksdale LA 71110

Landholding Agency: Air Force

Property Number: 18201420011

Status: Underutilized

Comments: public access denied and no alternate without compromising national security.

Reasons: Secured Area

Maine

Building 421

Bangor Intern'l Airport

Bangor ME 04401

Landholding Agency: Air Force

Property Number: 18201320057

Status: Excess

Comments: public access & no alters. w/out compromising nat'l sec.

Reasons: Secured Area

Building 495

104 Glenn Ave.

Bangor ME 04401

Landholding Agency: Air Force

Property Number: 18201320059

Status: Excess

Comments: public access denied & no alters. w/out compromising nat'l sec.

Reasons: Secured Area

Maryland

2 Buildings

Martin State Airport

Baltimore MD 21220

Landholding Agency: Air Force

Property Number: 18201220022

Status: Excess

Directions: 1120 & 1121

Comments: nat'l security concerns; public access denied & no alternative method to gain access w/out comprising nat'l security.

Reasons: Secured Area

9 Buildings

Joint Base Andrews

Joint base Andrews MD 20762

Landholding Agency: Air Force

Property Number: 18201340034

Status: Unutilized

Directions: 4942, 4952, 4962, 4963, 4964, 4971, 4972, 4973, 4982

Comments: no entry to military installation w/out DoD ID; public access denied & no alternative method to gain access w/out compromising national security.

Reasons: Secured Area

2 Buildings

Joint Base Andrews

Joint Base Andrews MD 20762

Landholding Agency: Air Force

Property Number: 18201420032

Status: Unutilized

Directions: 1600; 1642

Comments: public access denied and no alternative without compromising national security.

Reasons: Secured Area

4 Buildings

Joint Base Andrews

JBA MD 20762

Landholding Agency: Air Force

Property Number: 18201430058

Status: Unutilized

Directions: 1418; 1522; 1524; 1527

Comments: public access denied & no alternative without compromising National Security.

Reasons: Secured Area

Massachusetts

137 Pump House

Reilly House

OTIS ANGB MA

Landholding Agency: Air Force

Property Number: 18201230048

Status: Excess

Comments: located w/in secured area public access denied & no alternative method to gain access w/out compromising nat'l security.

Reasons: Secured Area

3 Buildings

175 Falcon Dr.

Westfield MA 01085

Landholding Agency: Air Force

Property Number: 18201240026

Status: Excess

Directions: 16, 35, 28

Comments: located on secured area; public access denied & no alternative methods to gain access w/out compromising nat'l security.

Reasons: Secured Area

2 Building

50 Maple Street

Milford MA 01757

Landholding Agency: Air Force

Property Number: 18201320056

Status: Excess

Directions: 100 & 101

Comments: public access denied & no alter. w/out compromising Nat'l sec.

Reasons: Secured Area

Building #75001 (I-Gate)

South Outer Rd.

Otis AFB MA

Landholding Agency: Air Force

Property Number: 18201430075

Status: Excess

Comments: public access denied and no alternative method to gain access w/out compromising national security.

Reasons: Secured Area

Michigan

3 Building

Bunker Road

Selfridge MI 48045

Landholding Agency: Air Force

Property Number: 18201420054

Status: Unutilized

Directions: 1451; 1452; 1453

Comments: public access denied and no alternative without compromising national security.

Reasons: Secured Area

Mississippi

Bldg. 21005

6225 M St.

Meridian MS 39307

Landholding Agency: Air Force

Property Number: 18201230046

Status: Unutilized

Comments: access limited to military personnel only; public access denied & no alternative method to gain access w/out compromising nat'l security.

Reasons: Secured Area

Building 630

713 Lockhart

Columbus MS 39710

Landholding Agency: Air Force

Property Number: 18201230060

Status: Underutilized

Comments: public access denied & no alternative method to gain access w/out compromising nat'l security.

Reasons: Secured Area

Building 115

CRTC Gulfport

Gulfport MS 39507

Landholding Agency: Air Force

Property Number: 18201330002

Status: Excess

Comments: public access denied & no alter. method w/out compromising Nat'l sec.

Reasons: Secured Area

Missouri

Building 115

10800 Lambert Int'l Blvd.

St. Louis MO 63044

Landholding Agency: Air Force

Property Number: 18201310004

Status: Unutilized

Comments: restricted military installation; public access denied & no alternative method to gain access w/out compromising nat'l security.

Reasons: Secured Area

N. Mariana Island

Building 2001/RG CON HSE

Range 123 W.—Prairie

Pueblo West CQ 81007

Landholding Agency: Air Force

Property Number: 18201330005

Status: Underutilized

Comments: public access denied & no alter. method w/out compromising nat'l sec.

Reasons: Secured Area

Nebraska

Building 670

1111 West Oak Ave.

Lincoln NE 68524

Landholding Agency: Air Force

Property Number: 18201320084

Status: Unutilized

Comments: 100% of property located in floodway; floodway has not been correct or contained.

Reasons: Floodway

New Hampshire

PEASE ANGB

302 New market St.

Newington NH 03803

Landholding Agency: Air Force

Property Number: 18201230043

Status: Unutilized

Comments: public access denied & no alternative method to gain access w/out compromising nat'l security.

Reasons: Secured Area

New Mexico

EOD Bldg. 805

RPUID443909

Holloman NM 88330

Landholding Agency: Air Force

Property Number: 18201430059

Status: Unutilized

Comments: located within military airfield & public access denied without no alternative without compromising National Security.

Reasons: Secured Area; Within airport runway clear zone

20226

Kirtland AFB

Kirtland NM 87117

Landholding Agency: Air Force

Property Number: 18201430065

Status: Unutilized

Comments: public access denied & no alternative without compromising National Security.

Reasons: Secured Area

New York

3 Buildings

Hancock Field ANG IAP

Syracuse NY 13211

Landholding Agency: Air Force

Property Number: 18201410014

Status: Unutilized

Directions: 600, 641, 617

Comments: public access denied and no alternative method to gain access w/out compromising national security.

Reasons: Secured Area

Hancock IAP (ANG)

6001 E Molloy Rd. Building 617

Syracuse NY 13211

Landholding Agency: Air Force

Property Number: 18201430070

Status: Unutilized

Comments: public access denied and no alternative method w/out compromising national security.

Reasons: Secured Area

North Dakota

28 Building

JFSD Grand Forks AFB

Grand Folks ND 58205

Landholding Agency: Air Force

Property Number: 18201320043

Status: Unutilized

Directions: 702,727,728,729,730,731,733,726,725,724,723,722,720,719,718,717,715,714,713,712,711,709,708,707,706,705,703,704

Comments: not accessible to public & no alter. w/out compromising nat'l sec.

Reasons: Secured Area

Ohio

6 Buildings

Wright-Patterson AFB

Wright-Patterson AFB OH 45433

Landholding Agency: Air Force

Property Number: 18201420042

Status: Excess

Directions: 20189; 10286; 20198; 30053; 20064; 20068

Comments: public access denied and no alternation without compromising national security.

Reasons: Secured Area

Facility 30150

Wright-Patterson

WPAFB OH 45433

Landholding Agency: Air Force

Property Number: 18201430054

Status: Excess

Comments: public access denied & no alternative without compromising National Security.

Reasons: Secured Area

Oklahoma

Facility 47

Altus AFB

AGGN OK 73523

Landholding Agency: Air Force

Property Number: 18201230030

Status: Excess

Comments: public access denied due to anti-terrorism/force protection & no alternative method to gain access w/out compromising nat'l security.

Reasons: Secured Area

Facility 47

501 North First St.

Altus OK 73523

Landholding Agency: Air Force

Property Number: 18201240022

Status: Excess

Comments: public access denied & no alternative method to gain access w/out compromising nat'l security.

Reasons: Secured Area

2 Buildings

Altus AFB

Altus OK 73523

Landholding Agency: Air Force

Property Number: 18201310051

Status: Unutilized

Directions: 267, 335

Comments: secured area; public access denied & no alternative w/out compromising nat'l security.

Reasons: Secured Area

460

7460 Arnold Avenue

Tinker AFB OK 73145

Landholding Agency: Air Force

Property Number: 18201420045

Status: Excess

Comments: public access denied and no alternation without compromising national security.

Reasons: Secured Area

4 Buildings

Tinker AFB

Tinker AFB OK 73145

Landholding Agency: Air Force

Property Number: 18201420047

Status: Underutilized

Directions: 238; 265; 1039; 7015

Comments: buildings are not reloadable; public access denied and no alternative method to gain access without compromising national security.

Reasons: Secured Area

8 Buildings

Tinker AFB

Tinker AFB OK 73145

Landholding Agency: Air Force

Property Number: 18201420048

Status: Excess

Directions: 1035; 1162; 1036; 1086; 1088; 1122; 1131; 3123

Comments: buildings are not reloadable; public access denied and no alternative method to gain access w/out compromising national security.

Reasons: Secured Area

Oregon

Building 1004

6801 NE Cornfoot Rd.

Portland OR 97218

Landholding Agency: Air Force

Property Number: 18201240025

Status: Unutilized

Comments: located on secured areea; public access denied & no alternative method to gain access w/out compromising nat'l security.

Reasons: Secured Area

Building 188

6801 NE Cornfoot Road

Portland OR 97218

Landholding Agency: Air Force

Property Number: 18201320064

Status: Unutilized

Comments: public access denied & no alter. method w/out compromising nat'l sec.

Reasons: Secured Area

Building 370

Portland IAP TQKD (ANG)

Portland OR 97218

Landholding Agency: Air Force

Property Number: 18201330045

Status: Unutilized

Comments: public access denied & no alternative to gain access w/out compromising nat'l security.

Reasons: Secured Area

Pennsylvania

Pa Ang Bldg. 1-66

Ft. Indiantown Gap AGS, LKLW

Annville PA 17003

Landholding Agency: Air Force

Property Number: 18201330051

Status: Excess

Comments: public access denied & no alternative method to gain access w/out compromising nat'l security.

Reasons: Secured Area

Pa Ang Bldg. 1-66

Fort Indiantown Gap

AGS, LKLW

Annville PA 17003

Landholding Agency: Air Force

Property Number: 18201340018

Status: Excess

Comments: public access denied & no alternative method to gain access w/out compromising national security.

Reasons: Secured Area

Puerto Rico

Fac. 79; Muniz IAP (ANG) TUMR

200 JoseA (Tony) Santana Ave.

Carolina PR 00979

Landholding Agency: Air Force

Property Number: 18201430073

Status: Unutilized

Comments: public access denied and no alternative method to gain access w/out compromising national security.

Reasons: Secured Area

Fac. 74; Muniz IAP (ANG); TUMR

200 JoseA (Tony) Santana Ave.

Carolina PR 00979

Landholding Agency: Air Force

Property Number: 18201430074

Status: Unutilized

Comments: public access denied and no alternative method to gain access w/out compromising national security.

Reasons: Secured Area

South Carolina

Bldg. 211

110 Graves Ave.

Joint Base Charleston SC 29404

Landholding Agency: Air Force

Property Number: 18201230055

Status: Unutilized

Comments: located in restricted area; public access denied & no alternative method to gain access w/out compromising nat'l security.

Reasons: Secured Area

DKGV 822

JB Charleston

Goose Creek SC 29445

Landholding Agency: Air Force

Property Number: 18201340010

Status: Unutilized

Comments: public access denied & no alternative method to gain access w/out compromising national security.

Reasons: Secured Area

DKGV 43

JB Charleston

Goose Creek SC 29445

Landholding Agency: Air Force

Property Number: 18201340011

Status: Underutilized

Comments: public access denied & no alternative method to gain access w/out compromising national security.

Reasons: Secured Area

South Dakota

Building 80

1201 W Algonquin St.

Sioux Falls SD 57104

Landholding Agency: Air Force

Property Number: 18201330003

Status: Excess

Comments: public access denied & no alter. method w/out compromising Nat'l sec.

Reasons: Secured Area

Building 80

LUXC Joe Foss Field

Sioux Falls SD 57104

Landholding Agency: Air Force

Property Number: 18201330039

Status: Excess

Comments: public access denied & no alternative method to gain access w/out compromising nat'l security.

Reasons: Secured Area

Tennessee

Bldg. 708

Nashville IAP

Nashville TN 37217

Landholding Agency: Air Force

Property Number: 18201230059

Status: Underutilized

Comments: authorized military personnel only; restricted area; public access denied & no alternative method to gain access w/out compromising nat'l security.

Reasons: Secured Area

Building 712

240 Knapp Blvd.

Nashville TN 37217

Landholding Agency: Air Force

Property Number: 18201240024

Status: Excess

Comments: located on secured area; public access denied & no alternative method to gain access w/out compromising nat'l security.

Reasons: Secured Area

Building 750

South Fourth St.

Arnold AFB TN 37389

Landholding Agency: Air Force

Property Number: 18201240037

Status: Excess

Comments: located on secured area where public access denied & no alternative method to gain access w/out compromising nat'l security.

Reasons: Secured Area

Facilities 1470 & 1485

Arnold AFB

Arnold AFB TN 37389

Landholding Agency: Air Force

Property Number: 18201310063

Status: Excess

Comments: secured area public access denied & no alternative method w/out compromising nat'l security.

Reasons: Secured Area

Building 131

320 Post Ave. McGhee Tyson

Louisville TN 37777

Landholding Agency: Air Force

Property Number: 18201320045

Status: Unutilized

Comments: secured military installation; public access denied & no alter. method w/out compromising nat'l sec.

Reasons: Secured Area

Building 13

320 Post Ave. McGhee Tyson

Louisville TN 37777

Landholding Agency: Air Force

Property Number: 18201320046

Status: Excess

Comments: secured military installation, public access denied & no alter. w/out compromising nat'l sec.

Reasons: Secured Area

Bldg. 425, Viewing Stand

PSXE (McGhee Tyson Airport)

Louisville TN 37777

Landholding Agency: Air Force

Property Number: 18201340019

Status: Underutilized

Comments: public access denied & no alternative method to gain access w/out compromising national security.

Reasons: Secured Area

Building 241

McGhee Tyson Apartment

Louisville TN 37777

Landholding Agency: Air Force

Property Number: 18201420013

Status: Excess

Comments: public access denied and no alternate without compromising national security.

Reasons: Secured Area

18 Buildings

Davis Monahan

4855 S. Wickenburg Avenue

Tucson TN 85707

Landholding Agency: Air Force

Property Number: 18201420014

Status: Underutilized

Comments: public access denied and no alternate without compromising national security.

Reasons: Secured Area

Building 3000, HQ MAJOR CMD

320 Post Avenue

McGhee Tyson ANG Base

Louisville TN 37777

Landholding Agency: Air Force

Property Number: 18201420018

Status: Excess

Comments: public access denied and no alternate without compromising national security.

Reasons: Secured Area

Building 106, Comm Fclty

320 Post Avenue

McGhee Tyson ANG Base

Louisville TN 37777

Landholding Agency: Air Force

Property Number: 18201420021

Status: Excess

Comments: public access denied and no alternate without compromising national security.

Reasons: Secured Area

Building 2120

Arnold AFB

2120 Gossick Road

Arnold TN 37389

Landholding Agency: Air Force

Property Number: 18201420033

Status: Underutilized

Comments: public access denied and no alternative without compromising national security.

Reasons: Secured Area

Building 1433

Arnold AFB

1433 S. Fifth Street

Arnold TN 37389

Landholding Agency: Air Force

Property Number: 18201420040

Status: Unutilized

Comments: public access denied and no alternation without compromising national security.

Reasons: Secured Area

TEXAS

11 Buildings

Ft. Sam Houston

San Antonio TX 78234

Landholding Agency: Air Force

Property Number: 18201220014

Status: Unutilized

Directions: 1149, 1151, 1152, 1153, 1154, 1158, 1159, 1160, 1161, 1162, 1163

Comments: nat'l security concerns; public access denied & no alternative method to gain access w/out comprising nat'l security.

Reasons: Secured Area

12 Buildings

Ft. Sam Houston

San Antonio TX 78234

Landholding Agency: Air Force

Property Number: 18201220015

Status: Unutilized

Directions: 2410, 2411, 2412, 2425, 2427, 2429, 2430, 2432, 3551, 3552, 3553, 3557

Comments: nat'l security concerns; public access denied & no alternative method to gain access w/out comprising nat'l security.

Reasons: Secured Area

Bldg. 1092

Sheppard AFB

Sheppard AFB TX 76311

Landholding Agency: Air Force

Property Number: 18201220029

Status: Unutilized

Comments: nat'l security concerns; public access denied & no alternative method to gain access w/out comprising nat'l security.

Reasons: Secured Area

Shop A/M Org. B00054

251 Fourth Ave.

Del Rio TX 78843

Landholding Agency: Air Force

Property Number: 18201310058

Status: Unutilized

Comments: located on military installation; public access denied & no alternative method w/out compromising nat'l security.

Reasons: Secured Area

5 Buildings

Dyess AFB

Dyess AFB TX 76907

Landholding Agency: Air Force

Property Number: 18201420051

Status: Unutilized

Directions: 8032; 7422; 6112; 5019; 4317

Comments: buildings are not reloadable; public access denied and no alternative method to gain access without compromising national security.

Reasons: Secured Area

1402; FWJH

Sneider

Houston TX 77034

Landholding Agency: Air Force

Property Number: 18201430072

Status: Excess

Comments: public access denied and no alternative method to gain access w/out compromising national security.

Reasons: Secured Area

Virginia

Bldg. 1994

Eagle Ave

Hampton VA 23665

Landholding Agency: Air Force

Property Number: 18201220024

Status: Underutilized

Comments: nat'l security concerns; public access denied & no alternative method to gain access w/out comprising nat'l security.

Reasons: Secured Area

9 Buildings

Langley AFB

Langley AFB VA 23665

Landholding Agency: Air Force

Property Number: 18201220027

Status: Underutilized

Directions: 1092, 1093, 1094, 1095, 1096, 1097, 1098, 750, 51

Comments: nat'l security concerns; public access denied & no alternative method to gain access w/out comprising nat'l security.

Reasons: Secured Area

Building 37

48 Dogwood Avenue

Hampton VA 23665

Landholding Agency: Air Force

Property Number: 18201330024

Status: Underutilized

Comments: active military installation; public access denied & no alternative method to gain access w/out compromising nat'l security.

Reasons: Secured Area

Building 297

Sweeney Blvd.

Hampton VA 23665

Landholding Agency: Air Force

Property Number: 18201330027

Status: Excess

Comments: public access denied & no alternative method to gain access w/out compromising nat'l security.

Reasons: Secured Area

Washington

2428

Fairchild

Fairchild WA 99011

Landholding Agency: Air Force

Property Number: 18201430057

Status: Underutilized

Comments: public access denied & no alternative without compromising National Security.

Reasons: Secured Area

Wyoming

3 Buildings

FE Warren AF

Cheyenne WY 82005

Landholding Agency: Air Force

Property Number: 18201240020

Status: Unutilized

Directions: 1166, 2277, 835

Comments: restricted area; public access denied & no alternative method to gain access w/out compromising nat'l security.

Reasons: Secured Area

Unsuitable Properties

Land

Alaska

12.28 Acres

Joint Base Elmendorf

Richardson

JBER AK 99505

Landholding Agency: Air Force

Property Number: 18201410016

Status: Underutilized

Comments: 100% of property located w/in an airport runway clear zone.

Reasons: Within airport runway clear zone

46 Acres

Joint Base Elmendorf

Richardson

JBER-Elmendorf AK 99506

Landholding Agency: Air Force

Property Number: 18201410017

Status: Underutilized

Comments: 100% of property located w/in an airport runway clear zone.

Reasons: Within airport runway clear zone

Land

JBER

JBER AK 99506

Landholding Agency: Air Force

Property Number: 18201420044

Status: Underutilized

Directions: 40x40 parcel; 10.46 acres; 14.71 acres; 63.21 acres

Comments: public access denied and no alternative method to gain access without compromising national security.

Reasons: Secured Area

50x50 Parcel of Land

Joint Base Elmendorf-Richardson

JBF-R AK 99506

Landholding Agency: Air Force

Property Number: 18201430062

Status: Underutilized

Comments: public access denied & no alternative without compromising National Security.

Reasons: Secured Area

Florida

8 Buildings

null

Tyndall AFB FL 32403

Landholding Agency: Air Force

Property Number: 18201310011

Status: Underutilized

Directions: 205, 207, 214, 748, 1277, 1279, 1280, 1476

Comments: restricted military installation; public access denied & no alternative method to gain access w/out compromising nat'l security.

Reasons: Secured Area

Massachusetts

Parking Lot

Hanscom AFB

Hanscom MA 01731

Landholding Agency: Air Force

Property Number: 18201410004

Status: Underutilized

Comments: public access denied and no alternative method to gain access w/out compromising national security.

Reasons: Secured Area

New Jersey

7.0 Acres land for training

Rounds & Lansdowne Roads

JBMDL NJ 08733

Landholding Agency: Air Force

Property Number: 18201320023

Status: Excess

Comments: public access denied & no alter. w/out compromising nat'l sec.

Reasons: Secured Area

Oklahoma

7 Buildings

Tinker AFB

Tinker AFB OK 73145

Landholding Agency: Air Force

Property Number: 18201420049

Status: Unutilized

Directions: 1013; 7006; 7001; 1010; 1016; 1034; 7028

Comments: buildings are not reloadable; public access denied and no alternative method to gain access without compromising national security.

Reasons: Secured Area

[FR Doc. 2014-22046 Filed 9-18-14; 8:45 am]

BILLING CODE 4210-67-P